DEPARTMENT OF THE TREASURY

Submission for OMB Review; Comment Request

February 10, 2004.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before March 19, 2004, to be assured of consideration.

Internal Revenue Service (IRS)

OMB Number: 1545-0117.

Form Number: IRS Form 1099-OID.

Type of Review: Extension.

Title: Original Issue Discount.

Description: Form 1099-OID is used for reporting original issue discount as required by section 6049 of the Internal Revenue Code. It is used to verify that income earned on discount obligations is properly reported by the recipient.

Respondents: Business or other for-profit.

Estimated Number of Respondents/Recordkeepers: 9,185.

Estimated Burden Hours Respondent/Recordkeeper: 12 minutes.

Frequency of Response: Annually.

Estimated Total Reporting/Recordkeeping Burden: 1,142,324 hours.

OMB Number: 1545-1379.

Form Number: IRS Form 8831.

Type of Review: Extension.

Title: Excise Taxes on Excess Inclusion of REMIC Residual Interests.

Description: Form 8831 is used by a real estate mortgage investment conduit (REMIC) to figure its excise tax liability under Code sections 860E(e)(1), 860E(e)(6), and 860E(e)(7). IRS uses the information to determine the correct tax liability of the REMIC.

Respondents: Business or other for-profit.

Estimated Number of Respondents/Recordkeepers: 31.

Estimated Burden Hours Respondent/Recordkeeper:

Recordkeeping—4 hr., 32 min.

Learning about the law or the form—1 hr., 29 min.

Preparing and sending the form to the IRS—1 hr., 37 min.

Frequency of Response: On occasion.

Estimated Total Reporting/Recordkeeping Burden: 237 hours.

OMB Number: 1545-1459.

Form Number: IRS Form 8498.

Type of Review: Extension.

Title: Program Sponsor Agreement for Continuing Education for Enrolled Agents.

Description: This information relates to the approval of continuing professional education programs for the individuals enrolled to practice before the Internal Revenue Service (enrolled agents).

Respondents: Business or other for-profit, individuals or households.

Estimated Number of Respondents: 500.

Estimated Burden Hours Respondent: 36 minutes.

Frequency of Response: Other (one-time filing).

Estimated Total Reporting Burden: 300 hours.

OMB Number: 1545-1738.

Revenue Procedure Number: Revenue Procedure 2001-29.

Type of Review: Extension.

Title: Leveraged Leases.

Description: Revenue Procedure 2001-29 sets forth the information and representations required to be furnished by taxpayers in requests for an advance ruling that a leveraged lease transaction is, in fact, a valid lease for Federal income tax purposes.

Respondents: Business or other for-profit, individuals or households, not-for-profit institutions.

Estimated Number of Respondents: 10.

Estimated Burden Hours Respondent: 80 hours.

Frequency of Response: 80 hours.

Estimated Total Reporting Burden: 800 hours.

OMB Number: 1545-1863.

Form Number: IRS Form 8879-S.

Type of Review: Extension.

Title: IRS e-file Signature Authorization for Form 1120S.

Description: Form 8879-S authorizes an officer of a corporation and an electronic return originator (ERO) to use a personal identification number (PIN) to electronically sign a corporation's electronic income tax return and, if applicable, electronic funds withdrawal consent.

Respondents: Business or other for-profit.

Estimated Number of Respondents/Recordkeepers: 11,360.

Estimated Burden Hours Respondent/Recordkeeper:

Recordkeeping—4 hr., 18 min.

Learning about the law or the form—28 min.

Preparing the form—1 hr., 29 min.

Frequency of Response: Annually.

Estimated Total Reporting/Recordkeeping Burden: 74,181 hours.

OMB Number: 1545-1864.

Form Number: IRS Form 8879-C.

Type of Review: Extension.

Title: IRS e-file Signature Authorization for Form 1120.

Description: Form 8879-C authorizes an officer of a corporation and an electronic return originator (ERO) to use a personal identification number (PIN) to electronically sign a corporation's electronic income tax return and, if applicable, electronic funds withdrawal consent.

Respondents: Business or other for-profit.

Estimated Number of Respondents/Recordkeepers: 7,760.

Estimated Burden Hours Respondent/Recordkeeper:

Recordkeeping—4 hr., 18 min.

Learning about the law or the form—28 min.

Preparing and sending the form to the IRS—1 hr., 29 min.

Frequency of Response: Annually.

Estimated Total Reporting/Recordkeeping Burden: 50,673 hours.

OMB Number: 1545-1866.

Form Number: IRS form 8453-C.

Type of Review: Extension.

Title: U.S. Corporation Income Tax Declaration for an IRS e-file Return.

Description: Form 8453-C is used to enable the electronic filing of Form 1120.

Respondents: Business or other for-profit.

Estimated Number of Respondents/Recordkeepers: 2,000.

Estimated Burden Hours Respondent/Recordkeeper:

Recordkeeping—4 hrs., 46 min.

Learning about the law or the form—28 min.

Preparing the form—1 hr., 30 min.

Copying, assembling, and sending the form to the IRS—16 min.

Frequency of Response: Annually.

Estimated Total Reporting/Recordkeeping Burden: 14,040 hours.

Clearance Officer: Glenn P. Kirkland, (202) 622-3428, Internal Revenue Service, Room 6411-03, 1111 Constitution Avenue, NW., Washington, DC 20224.

OMB Reviewer: Joseph F. Lackey, Jr., (202) 395-7316, Office of Management and Budget, Room 10235, New Executive Office Building, Washington, DC 20503.

Lois K. Holland,
Treasury PRA Clearance Officer.

[FR Doc. 04-3422 Filed 2-17-04; 8:45 am]

BILLING CODE 4830-01-P